DEPARTMENT OF HOMELAND SECURITY

Coast Guard

[Docket No. USCG-2008-0126]

Application for the Tank Ship S/R AMERICAN PROGRESS, Review for Inclusion in the Shipboard Technology Evaluation Program; Final Environmental Assessment

AGENCY: Coast Guard, DHS.

ACTION: Notice of availability.

SUMMARY: The Coast Guard announces the availability of the Final Environmental Assessment (FEA) for the tank ship S/R AMERICAN PROGRESS. The FEA describes the S/R AMERICAN PROGRESS application for the Shipboard Technology Evaluation Program (STEP) Ballast Water Management System (BWMS) initiative. The FEA for the S/R AMERICAN PROGRESS also addresses potential effects on the human and natural environments from installing, testing, and using the SevernTrentDeNora (STDN) BalPure™ ballast water treatment system as the vessel operates in U.S. waters.

ADDRESSES: Comments and material received from the public, as well as documents mentioned in this notice as being available in the docket, are part of the docket USCG-2008-0126. These documents are available for inspection or copying at the Docket Management Facility (M-30), U.S. Department of Transportation, West Building Ground Floor, Room W12-140, 1200 New Jersey Avenue, SE., Washington, DC 20590-0001, between 9 a.m. and 5 p.m., Monday through Friday, except Federal holidays. You can also find all docketed documents on the Federal Document Management System at http://www.regulations.gov, United States Coast Guard docket number USCG-2008-0126.

FOR FURTHER INFORMATION CONTACT: If you have questions on this notice, call or e-mail LCDR Brian Moore, U.S. Coast Guard; telephone 202-372-1434, e-mail brian.e.moore@uscg.mil. If you have questions on viewing the docket, call Renee V. Wright, Program Manager, Docket Operations, telephone 202-366-9826.

SUPPLEMENTARY INFORMATION:

Background and Purpose

In the Nonindigenous Aquatic Nuisance Prevention and Control Act of 1990, as reauthorized, and as amended by the National Invasive Species Act of 1996, Public Law 101-646 and Public Law 104-332, respectively, Congress directed the Coast Guard to prevent, to the maximum extent practicable, introduction of aquatic nonindigenous species from ballast water discharged by ships (16 U.S.C. 4711). To achieve this objective, the Coast Guard wrote new regulations in 33 CFR 151, subparts C and D. (58 FR 18330, Apr. 8, 1993, and 69 FR 44952, Jul. 28, 2004, respectively).

On December 8, 2004, the Coast Guard published a notice in the Federal Register (69 FR 71068, Dec. 8, 2004), announcing its Shipboard Technology Evaluation Program (STEP) for experimental shipboard ballast water treatment systems. The program goal is to promote development of alternatives to ballast water exchange as a means of preventing invasive species from entering U.S. waters through ships' ballast water. The comments we received support testing prototype treatment equipment and developing effective and practicable standards for approving this equipment.

In accordance with the National Environmental Policy Act of 1969 (Section 102(2)(c)), as implemented by the Council of Environmental Quality regulations in 40 CFR parts 1500-1508, and Coast Guard Commandant Instruction M16475.1D, “National Environmental Policy Act Implementing Procedures and Policy for Considering Environmental Impacts,” the Coast Guard prepared a Programmatic Environmental Assessment (PEA) for the STEP to evaluate the environmental impacts from installing and operating a limited number of prototype ballast water treatment systems (69 FR 71068, Dec. 8, 2004). The PEA can be found in docket USCG-2001-9267. The PEA addresses potential effects to the natural and human environments including fish, marine mammals, invertebrates, microorganisms and plankton, submerged and emergent aquatic vegetation, threatened and endangered species, and essential fish habitat. It also requires each system to be evaluated for localized effects on the ports and waterways where a vessel involved in the program operates.

The Coast Guard announced the availability and request for public comments of the Draft Environmental Assessment (DEA) for the tank ship S/R AMERICAN PROGRESS by Federal Register notice on December 1, 2008 (73 FR 72825, Dec. 1, 2008). The comment period was open until December 31, 2008. The California State Lands Commission (CSLC) had commented on previous Draft Environmental Assessments regarding three other vessels with STEP applications, specifically, STEP applications regarding the cruise ship CORAL PRINCESS (73 FR 72817, Dec. 1, 2008), the integrated tug and barge MOKU PAHU (73 FR 72819, Dec. 1, 2008), and the vessel ATLANTIC COMPASS (73 FR 72814, Dec. 1, 2008). Due to the high level of interest previously shown by CSLC, and that just prior to the end of the comment period on the DEA for S/R AMERICAN PROGRESS there were no public comments, the Coast Guard contacted CSLC prior to the closing of the comment period to ensure CSLC was aware of the posting. Soon after the comment period had expired, CSLC replied directly to Coast Guard via e-mail with comments. The CLSC submitted 23 substantive comments, and 19 editorial comments. All comments from CSLC were posted by the Coast Guard to the docket. The Coast Guard received no other comments from any source.

The 19 editorial comments from CLSC were adopted and incorporated in the Final Environmental Assessment (FEA) to improve readability. The adopted edits made no substantive changes to the FEA. The remaining comments with the Coast Guard's response are provided as appendix G in the FEA.

This notice is issued under authority of the National Environmental Policy Act of 1969 (Section 102 (2)(c)), as implemented by the Council of Environmental Quality regulations (40 CFR parts 1500-1508) and Coast Guard Commandant Instruction M16475.1D.

Dated: July 28, 2009.
J.G. Lantz,
Director of Commercial Regulations and Standards, U.S. Coast Guard.

[FR Doc. E9-18495 Filed 8-3-09; 8:45 am]

BILLING CODE 4910-15-P